DEPARTMENT OF HEALTH AND HUMAN SERVICES

Centers for Disease Control and Prevention

Board of Scientific Counselors, Coordinating Center for Infectious Diseases (CCID)

In accordance with section 10(a)(2) of the Federal Advisory Committee Act (Pub. L. 92-463), the Centers for Disease Control and Prevention (CDC), announces the cancellation of the May 2010 meeting of the aforementioned board. Due to unanticipated circumstances and scheduling conflicts, the board does not have the quorum required to convene.

Contact Person for More Information: Leola Mitchell, Office of the Director, CCID, CDC, 1600 Clifton Road, NE., Mailstop K-74, Atlanta, Georgia 30333, e-mail fvp9@cdc.gov, telephone (770) 488-8366.

The Director, Management Analysis and Services Office has been delegated the authority to sign Federal Register notices pertaining to announcements of meetings and other committee management activities, for both CDC and the Agency for Toxic Substances and Disease Registry.

Dated: April 21 2010.
Elaine L. Baker,
Director, Management Analysis and Services Office, Centers for Disease Control and Prevention.

[FR Doc. 2010-9953 Filed 4-28-10; 8:45 am]

BILLING CODE 4163-18-P